DEPARTMENT OF HEALTH AND HUMAN SERVICES

Administration for Children and Families

Submission for OMB Review; Comment Request

Title: Study of Coordination of Tribal TANF and Child Welfare Services.

OMB No.: New Collection.

Description: Study of Coordination of Tribal TANF and Child Welfare Services is sponsored by the Office of Planning, Research and Evaluation (OPRE), Administration for Children and Families of the U.S. Department of Health and Human Services. The study examines the approaches and strategies utilized by tribes and tribal organizations that were awarded the grants for Coordination of Tribal TANF and Child Welfare Services to Tribal Families at Risk of Child Abuse or Neglect.

The descriptive study of these programs that serve tribal communities will document the way in which the tribal grantees are creating and adapting culturally relevant and appropriate approaches, systems, and programs to increase coordination and enhance service delivery to address child abuse and neglect. The study will also document challenges faced and lessons learned to inform the field of practice as well as policymakers and funders at various levels.

The proposed information collection activities consist of semi-structured interviews, conducted at each of the 14 tribal communities, and a grantee feedback survey on the usefulness of periodically held cross-grantee learning events.

Respondents: Program director(s), tribal TANF and child welfare staff and supervisors, program partners, and tribal leaders or elders. The information collection does not include direct interaction with individuals or families that receive the services.

Annual Burden Estimates
Instrument | Annual number of respondents | Number of responses per respondent | Average burden hours per response | Total Annual burden hours
Interview Protocol for Program Staff | 9 | 3 | 1.5 | 41
Interview Protocol for TANF and CW Staff | 19 | 3 | 1 | 57
Interview Protocol for Tribal or Community Partners | 9 | 3 | .75 | 20
Interview Protocol for Tribal Leaders or Elders | 9 | 3 | 1 | 27
Feedback Form for Community of Learning Events | 10 | 5 | .15 | 8
Estimated Total Annual Burden Hours: |  |  |  | 153

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register.

Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Dated: May 29, 2012.
Steven M. Hanmer,
OPRE Reports Clearance Officer.

[FR Doc. 2012-13490 Filed 6-4-12; 8:45 am]

BILLING CODE 4184-35-M